SMALL BUSINESS ADMINISTRATION

Small Business Size Standards: Waiver of the Nonmanufacturer Rule

AGENCY: U.S. Small Business Administration.

ACTION: Notice of Waiver to the Nonmanufacturer Rule for Laboratory Equipment Manufacturing (Not-Portable).

SUMMARY: The U.S. Small Business Administration (SBA) is granting a class waiver of the Nonmanufacturer Rule for Not-Portable, Liquid Chromatography Mass Spectrometry (CS-MS) Systems, High Performance Liquid Chromatography (HPLC) Systems, Gas Chromatography Mass Spectrometry (GC-MS) Systems, and, Inductively Coupled Plasma Mass Spectrometry (ICP-MS) Systems under Product Service Code (PSC) 6640 (Laboratory Equipment and Supplies), under North American Industry Classification System (NAICS) code 334516 (Analytical Laboratory Instrument Manufacturing). The basis for waiver is that no small business manufacturers are supplying these classes of products to the Federal government. The effect of this waiver will be to allow otherwise qualified small businesses to supply the products of any manufacturer on a Federal contract set aside for small businesses, Service-Disabled Veteran-Owned (SDVO) small businesses or Participants in SBA's 8(a) Business Development (BD) Program.

DATES: This waiver is effective August 19, 2010.

FOR FURTHER INFORMATION CONTACT: Ms. Amy Garcia, Procurement Analyst, by telephone at (202) 205-6842; by FAX at (202) 481-1630; or by e-mail at amy.garcia@sba.gov.

SUPPLEMENTARY INFORMATION: Section 8(a)(17) of the Small Business Act (Act), 15 U.S.C. 637(a)(17), and SBA's implementing regulations require that recipients of Federal supply contracts set aside for small businesses, SDVO small businesses, or Participants in the SBA's 8(a) BD Program provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal Government within the last 24 months. 13 CFR 121.1202(c). The SBA defines “class of products” based on the Office of Management and Budget's NAICS. In addition, SBA uses PSCs to further identify particular products within the NAICS code to which a waiver would apply.

The SBA received a request on June 6, 2010, to waive the Nonmanufacturer Rule for not-portable CS-MS, HPLC, GC-MS, and, ICP-MS Laboratory Equipment under PSC 6640 (Laboratory Equipment and Supplies), under NAICS code 334516 (Analytical Laboratory Instrument Manufacturing).

On July 1, 2010, SBA published in the Federal Register a notice of intent to waive the Nonmanufacturer Rule for the above listed items. 75 FR 38156 (2010). SBA explained in the notice that it was soliciting comments and sources of small business manufacturers of this class of products. SBA did not specify not-portable equipment only. No comments were received in response to this notice. In addition, SBA conducted market research using the Dynamic Small Business Search database and no small business manufacturers that participate in the Federal market were identified. Thus, SBA has determined that there are no small business manufacturers of these classes of products. However, because the request for a class waiver was limited to not-portable equipment, SBA is limiting the waiver to not-portable CS-MS Systems, HPLC Systems, GC-MS Systems, and, ICP-MS Systems under PSC 6640 (Laboratory Equipment and Supplies), under NAICS code 334516 (Analytical Laboratory Instrument Manufacturing).

Karen Hontz,
Director, Office of Government Contracting.

[FR Doc. 2010-19126 Filed 8-3-10; 8:45 am]

BILLING CODE 8025-01-P